DEPARTMENT OF LABOR

Occupational Safety and Health Administration

[Docket No. OSHA-2011-0124]

Advisory Committee on Construction Safety and Health (ACCSH)

AGENCY: Occupational Safety and Health Administration (OSHA), Labor.

ACTION: Announcement of meetings of the Advisory Committee on Construction Safety and Health (ACCSH) and ACCSH Work Groups, and ACCSH appointments.

SUMMARY: ACCSH will meet December 15-16, 2011, in Washington, DC. In conjunction with the ACCSH meeting, ACCSH Work Groups will meet December 13-14, 2011. This notice also announces the appointment of a new ACCSH member and ACCSH chair.

DATES: ACCSH meeting: ACCSH will meet from 8 a.m. to 4 p.m., Thursday, December 15, 2011, and from 8 a.m. to noon, Friday, December 16, 2011.

ACCSH Work Group meetings: ACCSH Work Groups will meet Tuesday, December 13-14, 2011. (For Work Group meeting times, see the Work Group schedule in the SUPPLEMENTARY INFORMATION section of this notice.)

Written comments, requests to speak, speaker presentations, and requests for special accommodation: Comments, requests to address the ACCSH meeting, speaker presentations (written or electronic), and requests for special accommodations for ACCSH and ACCSH Work Group meetings must be submitted (postmarked, sent, transmitted) by December 7, 2011.

ADDRESSES: ACCSH and ACCSH Work Group meetings: ACCSH and ACCSH Work Group meetings will be held in Room N-3437 A-C, U.S. Department of Labor, 200 Constitution Avenue NW., Washington, DC 20210.

Submission of comments, requests to speak, and speaker presentations: Interested persons may submit comments, requests to speak at the ACCSH meeting, and speaker presentations using one of the following methods:

Electronically: You may submit materials, including attachments, electronically at http://www.regulations.gov, which is the Federal eRulemaking Portal. Follow the on-line instructions for submissions.

Facsimile (Fax): If your submission, including attachments, does not exceed 10 pages, you may fax it to the OSHA Docket Office at (202) 693-1648.

Mail, hand delivery, express mail, messenger, or courier service: You may submit your comments, requests to speak, and speaker presentations to the OSHA Docket Office, Docket No. OSHA-2011-0124, Room N-2625, U.S. Department of Labor, 200 Constitution Avenue NW., Washington, DC 20210; telephone (202) 693-2350 (TTY (877) 889-5627). Deliveries (hand deliveries, express mail or messenger or courier service) are accepted during the Department of Labor's and OSHA Docket Office's normal business hours, 8:15 a.m.-4:45 p.m., e.t., weekdays.

Requests for special accommodations: Please submit requests for special accommodations to attend the ACCSH and ACCSH Work Group meetings to Ms. Veneta Chatmon, OSHA, Office of Communications, Room N-3647, U.S. Department of Labor, 200 Constitution Avenue NW., Washington, DC 20210; telephone (202) 693-1999; email chatmon.veneta@dol.gov.

Instructions: All submissions must include the agency name and docket number for this Federal Register notice (Docket No. OSHA-2011-0124). Due to security-related procedures, submissions by regular mail may experience significant delays. Please contact the OSHA Docket Office for information about security procedures for making submissions. For additional information on submitting comments, requests to speak, and speaker presentations, see the SUPPLEMENTARY INFORMATION section of this notice.

Comments, requests to speak, and speaker presentations, including any personal information provided, will be posted without change at http://www.regulations.gov. Therefore, OSHA cautions individuals about submitting personal information such as Social Security numbers and birthdates.

FOR FURTHER INFORMATION CONTACT: For press inquiries: Mr. Frank Meilinger, OSHA, Office of Communications, Room N-3647, U.S. Department of Labor, 200 Constitution Avenue NW., Washington, DC 20210; telephone (202) 693-1999; email meilinger.francis@osha.gov.

For general information about ACCSH and ACCSH meetings: Mr. Francis Dougherty, OSHA, Directorate of Construction, Room N-3468, U.S. Department of Labor, 200 Constitution Avenue NW., Washington, DC 20210; telephone (202) 693-2020; email dougherty.francis@dol.gov.

SUPPLEMENTARY INFORMATION:

ACCSH Meeting

ACCSH will meet December 15-16, 2011, in Washington, DC. The meeting is open to the public.

ACCSH is authorized to advise the Secretary of Labor (Secretary) and Assistant Secretary of Labor for Occupational Safety and Health (Assistant Secretary) in the formulation of standards affecting the construction industry, and on policy matters arising in the administration of the safety and health provisions under the Contract Work Hours and Safety Standards Act (Construction Safety Act) (40 U.S.C. 3701 et seq.) and the Occupational Safety and Health Act of 1970 (29 U.S.C. 651 et seq.) (see also 29 CFR 1911.10 and 1912.3).

The tentative agenda for this meeting includes:

• Welcome/Remarks from the Office of the Assistant Secretary;

• Update from the Directorate of Construction on OSHA's outreach efforts, enforcement issues; and rulemaking projects;

• Update on NIOSH Programs;

• Presentation from the Seattle Tunnel and Rail Team (START);

• ACCSH's consideration of, and recommendations on, the following OSHA proposed rules:

○ Direct final rule/proposed rule to update personal protective equipment standards on head protection for construction work (29 CFR 1926.100); and

○ Proposed rule on Standards Improvement Project (SIP) IV;

• Sewage treatment plant failure presentation from the Office of Engineering Services;

• Update from the Directorate of Technical Support and Emergency Management;

• Backing operations presentation;

• Committee and Work Group Administration and Reports; and

• Public comment period.

ACCSH meetings are transcribed and detailed minutes of the meetings are prepared. OSHA places the transcript and minutes in the public docket for the meeting. The docket also includes ACCSH Work Group reports, speaker presentations, comments, and other materials submitted to the Committee.

ACCSH Work Group Meetings

In conjunction with the ACCSH meeting, the following ACCSH Work Groups will meet on December 13, 2011:

• Backing Operations 10:10 a.m. to 12:10 p.m.

• Prevention through Design 1 to 3 p.m.

• Construction Health Hazard 3:10 to 5:10 p.m.

The following ACCSH Work Groups will meet on December 14, 2011:

• Reinforced Concrete in Construction 8 to 10 a.m.

• Injury and Illness Prevention Programs 10:10 a.m. to 12:10 p.m.

• Multilingual Issues, Diversity, Women in Construction 1 to 3 p.m.

ACCSH Work Group meetings are open to the public. For additional information on ACCSH Work Group meetings or participating in them, please contact Mr. Dougherty or look on the ACCSH page on OSHA's Web page at http://www.osha.gov.

Public Participation, Submissions, and Access to Public Record

ACCSH and ACCSH Work Group meetings: ACCSH and ACCSH Work Group meetings are open to the public. Individuals attending meetings at the U.S. Department of Labor must enter the building at the visitors entrance, at 3rd and C Streets NW., and pass through building security. Attendees must have valid government-issued photo identification to enter the building. For additional information about building security measures for attending the ACCSH and ACCSH Work Group meetings, please contact Ms. Chatmon (See ADDRESSES section).

Individuals needing special accommodations to attend the ACCSH and ACCSH Work Group meetings also should contact Ms. Chatmon.

Submission of written comments: Interested persons may submit comments using one of the methods in the ADDRESSES section. All submissions must include the agency name and docket number for this ACCSH meeting (Docket No. OSHA-2011-0124). OSHA will provide copies of submissions to ACCSH members.

Because of security-related procedures, submissions by regular mail may experience significant delays. For information about security procedures for submitting materials by hand delivery, express mail or messenger or courier service, contact the OSHA Docket Office (see ADDRESSES section).

Requests to speak and speaker presentations: Individuals who want to address ACCSH at the meeting must submit their requests to speak and their written or electronic presentations (e.g., PowerPoint) by December 7, 2011, using one of the methods listed in the ADDRESSES section. The request must state the amount of time requested to speak, the interest the presenter represents (e.g., business, organization, affiliation), if any, and a brief outline of the presentation. PowerPoint presentations and other electronic materials must be compatible with PowerPoint 2003 and other Microsoft Office 2003 formats.

Alternately, at the ACCSH meeting, individuals may request to address ACCSH briefly by signing the public-comment request sheet and listing the topic(s) to be addressed. They also must provide 20 hard copies of any materials, written or electronic, they want to present to ACCSH.

Requests to address the committee may be granted at the ACCSH Chair's discretion, and as time and circumstances permit. The Chair will give first preference to those individuals who filed speaker requests and presentations by December 7, 2011.

Public docket of the ACCSH meeting: OSHA places comments, requests to speak, and speaker presentations, including any personal information you provide, in the public docket of this ACCSH meeting without change and may be available online at http://www.regulations.gov. Therefore, OSHA cautions you about submitting personal information such as Social Security numbers and birthdates.

OSHA also places the meeting transcript, meeting minutes, documents presented at the ACCSH meeting, Work Group reports, and other documents pertaining to the ACCSH meeting in the public docket. These documents are made available online at http://www.regulations.gov.

Access to the public record of ACCSH meetings: To read or download documents in the public docket of this ACCSH meeting, go to Docket No. OSHA-2011-0124 at http://www.regulations.gov. All documents in the public record for this meeting are listed in the http://www.regulations.gov index; however, some documents (e.g., copyrighted materials) are not publicly available through that Web page. All documents in the public record, including materials not available through http://www.regulations.gov, are available for inspection and copying in the OSHA Docket Office (see ADDRESSES section). Please contact the OSHA Docket Office for assistance making submissions to, or obtaining materials from, the public docket.

Electronic copies of this Federal Register notice are available at http://www.regulations.gov. This notice, as well as news releases and other relevant information, also are available on the OSHA Web page at http://www.osha.gov.

Announcement of ACCSH Appointments

The Secretary appointed ACCSH Member Erich “Pete” Stafford to be the new ACCSH Chair. Mr. Stafford replaces Mr. Frank Migliaccio, former ACCSH Chair and member, who announced his retirement at the July 28, 2011, meeting. In addition, the Secretary appointed Mr. Gerald Ryan, Director of Training, Health and Safety for the Operative Plasterers' and Masons' International, to serve the remainder of Mr. Migliaccio's unexpired term as an ACCSH employee representative. Mr. Ryan's term ends on May 18, 2012.

Authority and Signature

David Michaels, Ph.D., MPH, Assistant Secretary of Labor for Occupational Safety and Health, authorized the preparation of this notice under the authority granted by Section 7 of the Occupational Safety and Health Act of 1970 (29 U.S.C. 656), Section 107 of the Contract Work Hours and Safety Standards Act (Construction Safety Act) (40 U.S.C. 3704), the Federal Advisory Committee Act (5 U.S.C. App. 2), 29 CFR parts 1911 and 1912, 41 CFR part 102, and Secretary of Labor's Order No. 4-2010 (75 FR 55355 (9/10/2010)).

Signed at Washington, DC, on November 22, 2011.
David Michaels,
Assistant Secretary of Labor for Occupational Safety and Health.

[FR Doc. 2011-30564 Filed 11-28-11; 8:45 am]

BILLING CODE 4510-26-P